DEPARTMENT OF THE INTERIOR

National Park Service

[N6899; NPS-WASO-NAGPRA-NPS0041919; PPWOCRADN0-PCU00RP14.R50000]

Notice of Intended Repatriation: City of Pomona, Pomona, CA

AGENCY: National Park Service, Interior.

ACTION: Notice.

SUMMARY: In accordance with the Native American Graves Protection and Repatriation Act (NAGPRA), the City of Pomona intends to repatriate certain cultural items that meet the definition of unassociated funerary objects and that have a cultural affiliation with the Indian Tribes or Native Hawaiian organizations in this notice.

DATES: Repatriation of the cultural items in this notice may occur on or after March 4, 2026.

ADDRESSES: Send additional, written requests for repatriation of the cultural items in this notice to Anita D. Scott, City of Pomona, 505 S Garey Avenue, Pomona, CA 91766, email Anita.Scott@pomonaca.gov.

SUPPLEMENTARY INFORMATION: This notice is published as part of the National Park Service's administrative responsibilities under NAGPRA. The determinations in this notice are the sole responsibility of the City of Pomona and additional information on the determinations in this notice, including the results of consultation, can be found in the summary or related records. The National Park Service is not responsible for the determinations in this notice.

Abstract of Information Available

A total of nine lots of cultural items have been requested for repatriation. The nine lots of unassociated funerary objects include three lots of bone, one lot of lithics, two lots of ceramics, two lots of shells, and one lot of glass beads. In 1968, construction workers uncovered a burial site in Ganesha Park, Pomona, CA. The Los Angeles County coroner determined the remains to be Native American. Following this inadvertent discovery, two professors, Thomas Blackburn of Cal Poly Pomona and John S. Belmont of Pitzer College, Claremont, excavated the burial site. During the excavation, the unassociated funerary objects were collected and taken to Cal Poly Pomona where they remain.

Determinations

The City of Pomona has determined that:

• The nine lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 4, 2026. If competing requests for repatriation are received, the City of Pomona must determine the most appropriate requestor prior to repatriation. Requests for joint repatriation of the cultural items are considered a single request and not competing requests. The City of Pomona is responsible for sending a copy of this notice to the Indian Tribes and Native Hawaiian organizations identified in this notice and to any other consulting parties.

Authority: Native American Graves Protection and Repatriation Act, 25 U.S.C. 3004 and the implementing regulations, 43 CFR 10.9.

Dated: January 22, 2026.
Melanie O'Brien,
Manager, National NAGPRA Program.

[FR Doc. 2026-02026 Filed 1-30-26; 8:45 am]

BILLING CODE 4312-52-P